DEPARTMENT OF ENERGY

Office of Energy Efficiency and Renewable Energy

Hydrogen and Fuel Cell Technical Advisory Committee (HTAC); Notice of Open Meeting

AGENCY: Department of Energy.

ACTION: Notice of open meeting.

SUMMARY: The Hydrogen and Fuel Cell Technical Advisory Committee (HTAC) was recently established under the Energy Policy Act of 2005 (EPACT), P.L. 109-190. The Federal Advisory Committee Act (Pub. L. 92-463, 86 Stat. 770) requires that agencies publish these notices in the Federal Register to allow for public participation. This notice announces the first meeting of HTAC.

DATES: The meeting will begin on October 2, 2006, at 11 am and will conclude at 3 pm on October 3, 2006.

ADDRESSES: Crystal Gateway Marriott, 1700 Jefferson-Davis Highway, Arlington, VA 22202.

FOR FURTHER INFORMATION CONTACT: HTAC.Committee@ee.doe.gov.

SUPPLEMENTARY INFORMATION: Purpose of Meeting: To provide advice, information, and recommendations to the Secretary on the program authorized by Title VIII, Hydrogen, of EPACT.

Tentative Agenda (Subject to change; updates will be posted on hydrogen.energy.gov):

Monday, October 2

11 Welcome and Introductory Remarks

11:15 Introductions and Review of Agenda

11:45 Presentation by DOE General Counsel; Questions and Answers

12:30 Lunch

1:30 Review of Charter

2 Presentation on former Committee, Hydrogen Technical Advisory Panel by Allan Lloyd, former member

2:30 Break

2:50 Presentation of EPACT 2005 HTAC Deliverables and Timeline

3:40 Presentation of DOE Hydrogen Program and Posture Plan

5:30 Nominations for Chair and Overview of Plans for Day 2

6 Adjourn

Tuesday, October 3

8:30 Election of the Chairperson

9:10 Committee discussion: HTAC structure and subcommittees, (e.g., Policy, Analysis, Specific program areas, etc.)

10:10 Break

10:30 Discussion: Committee Deliverables (e.g., Report to the Secretary on the Review of Posture Plan)

11:30 Lunch

12:30 Work Plan for FY07 and Other Committee Business

1:40 Public Comment Period

2:40 Review Action Items and Schedule Next Meeting

3 Adjourn

Public Participation: In keeping with procedures, members of the public are welcome to observe the business of HTAC and to make oral statements during the specified period for public comment. To attend the meeting and/or to make oral statements regarding any of the items on the agenda, e-mail HTAC.Committee@ee.doe.gov at least 5 business days before the meeting. (Please indicate if you will be attending the meeting both days or just one day.) Members of the public will be heard in the order in which they sign up for the Public Comment Period. Oral comments should be limited to two minutes in length. Reasonable provision will be made to include the scheduled oral statements on the agenda. The Chair of the Committee will make every effort to hear the views of all interested parties and to facilitate the orderly conduct of business. If you would like to file a written statement with the Committee, you may do so either before or after the meeting (electronic and hard copy).

Minutes: The minutes of the meeting will be available for public review and copying at the Freedom of Information Public Reading Room; Room 1E-190, Forrestal Building, 1000 Independence Avenue, SW., Washington, DC 20585, between 9 a.m. and 4 p.m., Monday through Friday, except Federal holidays.

Issued at Washington, DC on August 31, 2006.
Rachel Samuel,
Deputy Advisory Committee Management Officer.

[FR Doc. E6-14880 Filed 9-7-06; 8:45 am]

BILLING CODE 6450-01-P